INTERNATIONAL TRADE COMMISSION

Agency Information Collection Activities: Submission for OMB Review; Renewal of Generic Clearance; Comment Request

AGENCY: United States International Trade Commission.

ACTION: Notice and comment request.

SUMMARY: Consistent with the Paperwork Reduction Act of 1995, the U.S. International Trade Commission (Commission) has submitted a proposal for the collection of information to the Office of Management and Budget (OMB) for approval. The proposed information collection is a three-year extension of the current generic clearance (approved by OMB under Control No. 3117-0016) under which the Commission can issue information collections for import injury investigations and reviews that it is required to conduct under the Tariff Act of 1930, the Trade Act of 1974, and other trade remedy statutes that require or authorize the Commission to make findings or determinations. These investigations and reviews include: Antidumping duty, countervailing duty, global safeguard, United States-Mexico-Canada Agreement safeguard, market disruption, interference with programs of the U.S. Department of Agriculture, and bilateral safeguard. Any comments submitted to OMB on the proposed information collection should be specific, indicating which part of the questionnaires or study plan are objectionable, describing the issue in detail, and including specific revisions or language changes.

The Commission did not receive any comments in response to the 60-day notice that it published in the Federal Register on January 29, 2020.

DATES: Comments must be submitted on or before June 10, 2020.

ADDRESSES: Commenters are encouraged to submit comments by email. Submit any comments about the proposal to the Office of Information and Regulatory Affairs, Office of Management and Budget, Attention: Sam Wice, Desk Officer for U.S. International Trade Commission at Samuel.L.Wice@omb.eop.gov. Provide copies of any comments that you submit to OMB to Jeremy Wise, Director, Office of Analysis and Research Services, U.S. International Trade Commission at Jeremy.Wise@usitc.gov.

FOR FURTHER INFORMATION CONTACT: You may obtain copies of the proposed collection of information and supporting documentation from Nathanael Comly, Supervisory Investigator, U.S. International Trade Commission at Nathanael.Comly@usitc.gov or 202-205-3174. Hearing-impaired persons can obtain information on this matter by contacting the Commission's TDD terminal at 202-205-1810. Persons with mobility impairments who will need special assistance in gaining access to the Commission should contact the Office of the Secretary at 202-205-2000. You may obtain general information about the Commission at http://www.usitc.gov.

SUPPLEMENTARY INFORMATION:

(1) The proposed information collection consists of six forms, namely the Sample Producers', Sample Importers', Sample Purchasers', and Sample Foreign Producers' questionnaires (separate forms are provided for questionnaires issued for the five-year reviews), Sample Administrative Protective Order Application Form, and Sample Notice of Institution for Five-Year Reviews.

(2) The types of items contained within the sample questionnaires, administrative protective order application, and institution notice are largely determined by statute. Actual questions formulated for use in a specific investigation depend upon such factors as the nature of the industry, the relevant issues, the ability of respondents to supply the data, and the availability of data from secondary sources.

(3) Commission staff consolidates the information collected through questionnaires issued under the generic clearance for trade remedy investigations, and this information forms much of the statistical base for the Commission's determinations. Affirmative Commission determinations in antidumping and countervailing duty investigations result in the imposition of duties on imports entering the United States, as determined by the U.S. Department of Commerce, which are in addition to any normal customs duties. If the Commission makes an affirmative determination in a five-year review, the existing antidumping or countervailing duty order remains in place. The president or the U.S. Trade Representative use the data developed in global safeguard, market disruption, and interference with U.S. Department of Agriculture program investigations (if the Commission finds affirmatively) to determine the type of relief, if any, to be provided to domestic industries.

The submissions made to the Commission of the administrative protective order application form is the basis on which parties are granted disclosure of business proprietary information. The submissions made to the Commission in response to the notices of institution of five-year reviews are the basis for the Commission's determination whether to conduct a full or expedited review.

(4) Likely respondents are businesses (including foreign businesses) or farms that produce, import, or purchase products under investigation. The Commission estimates that information collections issued under the requested generic clearance will impose an average annual burden of 409,250 hours on 12,935 respondents (i.e., recipients that provide a response to the Commission's questionnaires, notices of institution of five-year reviews, and other investigations and forms).

(5) No record keeping burden is known to result from the proposed collection of information.

By order of the Commission.
Issued: May 5, 2020.
Lisa Barton,
Secretary to the Commission.

[FR Doc. 2020-09986 Filed 5-8-20; 8:45 am]

BILLING CODE 7020-02-P